COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds product(s) to the Procurement List that will be furnished by nonprofit agencies employing persons who are blind or have other severe disabilities, and deletes product(s) and service(s) from the Procurement List previously furnished by such agencies.

DATES: Date added to and deleted from the Procurement List: July 10, 2022

ADDRESSES: Committee for Purchase From People Who Are Blind or Severely Disabled, 1401 S Clark Street, Suite 715, Arlington, Virginia 22202-4149.

FOR FURTHER INFORMATION CONTACT: Michael R. Jurkowski, Telephone: (703) 785-6404, or email CMTEFedReg@AbilityOne.gov.

SUPPLEMENTARY INFORMATION:

Additions

On 3/4/2022 (87 FR 12435), the Committee for Purchase From People Who Are Blind or Severely Disabled published notice of proposed additions to the Procurement List. This notice is published pursuant to 41 U.S.C. 8503 (a)(2) and 41 CFR 51-2.3.

After consideration of the material presented to it concerning capability of qualified nonprofit agencies to provide the product(s) and impact of the additions on the current or most recent contractors, the Committee has determined that the product(s) and service(s) listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the product(s) and service(s) to the Government.

2. The action will result in authorizing small entities to furnish the product(s) and service(s) to the Government.

3. There are no known regulatory alternatives which would accomplish the objectives of the Javits-Wagner-O'Day Act (41 U.S.C. 8501-8506) in connection with the product(s) and service(s) proposed for addition to the Procurement List.

End of Certification

Accordingly, the following product(s) are added to the Procurement List:

Product(s)

NSN(s)—Product Name(s): MR 10825—Emergency Triangle Work Light, Includes Shipper 20825

Designated Source of Supply: Winston-Salem Industries for the Blind, Inc, Winston-Salem, NC

Contracting Activity: Military Resale-Defense Commissary Agency

Distribution: C-List

Mandatory for: The requirements of military commissaries and exchanges in accordance with the 41 CFR 51-6.4

Deletions

On 6/10/2022, the Committee for Purchase From People Who Are Blind or Severely Disabled published notice of proposed deletions from the Procurement List. This notice is published pursuant to 41 U.S.C. 8503 (a)(2) and 41 CFR 51-2.3.

After consideration of the relevant matter presented, the Committee has determined that the product(s) and service(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product(s) and service(s) to the Government.

3. There are no known regulatory alternatives which would accomplish the objectives of the Javits-Wagner-O'Day Act (41 U.S.C. 8501-8506) in connection with the product(s) and service(s) deleted from the Procurement List.

End of Certification

Accordingly, the following product(s) and service(s) are deleted from the Procurement List:

Product(s)

NSN(s)—Product Name(s):

8105-LL-S05-4103—Polyethylene Bag, Hazardous Waste, 36″x48″x.008, Transparent Orange

8105-LL-S05-4108—Polyethylene Bag, 16″x18″x.008, Transparent Green

8105-LL-S05-4110—Polyethylene Bag, 24″x36″x.008, Transparent Green

8105-LL-S05-4111—Polyethylene Bag, 36″x48″x.008, Transparent Green

8105-LL-S05-4113—Polyethylene Bag, Hazardous Waste, 24″x36″x.008, T

8105-LL-S05-4114—Polyethylene Bag, Hazardous Waste, 16″x18″x.008, Transparent Orange

8105-LL-S05-4142—Polyethylene Bag, 24″x10″x48,″ Transparent White

8105-LL-S05-4143—Polyethylene Bag, 24″x10″x36,″ Transparent White

8105-LL-S05-4107—Polyethylene Bag, 24″x48″x.008, Transparent Green

8105-LL-S05-4109—Polyethylene Bag, 14″x48″x.008, Transparent Green

8105-LL-S04-8618—Bag, Polyethylene, Landfill Controlled Waste, 36″W x 48″L, Opaque Green

8105-LL-S04-8619—Bag, Polyethylene, Landfill Controlled Waste, 24″W x 48″L, Opaque Green

8105-LL-S04-8620—Bag, Polyethylene, Landfill Controlled Waste, 14″W x 48″L, Opaque Green

8105-LL-S04-9831—Bag, Polyethylene, Landfill Controlled Waste, 24″W x 36″L, Opaque Green

8105-LL-S05-0760—Bag, Polyethylene, Landfill Controlled Waste, 16″W x 18″L, Opaque Green

Designated Source of Supply: Open Door Center, Valley City, ND

Contracting Activity: DLA MARITIME—PUGET SOUND, BREMERTON, WA

NSN(s)—Product Name(s):

MR 931—Refill, Roller Mop, Angled Head, 10.5″ Head

MR 1106—Bag, Storage, Vacuum Sealed, 2PG

Designated Source of Supply: Industries for the Blind and Visually Impaired, Inc., West Allis, WI

Contracting Activity: Military Resale-Defense Commissary Agency

Service(s)

Service Type: Water System Hydrant Maintenance

Mandatory for: U.S. Army, Joint Base Lewis-McChord, 2140 Liggett Avenue, Joint Base Lewis-McChord, WA

Designated Source of Supply: Skookum Educational Programs, Bremerton, WA

Contracting Activity: DEPT OF THE ARMY, W6QM MICC-JB LEWIS-MC CHORD

Service Type: Document Management Service

Mandatory for: U.S. Army, Evans Army Community Hospital, 1650 Cochrane Circle, Fort Carson, CO

Designated Source of Supply: Goodwill Industrial Services Corporation, Colorado Springs, CO

Contracting Activity: DEPT OF THE ARMY, W6QM MICC-FT CARSON

Michael R. Jurkowski,
Acting Director, Business Operations.

[FR Doc. 2022-12566 Filed 6-9-22; 8:45 am]

BILLING CODE 6353-01-P